DEPARTMENT OF TRANSPORTATION

Federal Aviation Administration

14 CFR Part 39

[Docket No. FAA-2012-1206; Directorate Identifier 2012-SW-021-AD; Amendment 39-17269; AD 2012-23-13]

RIN 2120-AA64

Airworthiness Directives; Sikorsky Aircraft Corporation (Sikorsky) Model Helicopters

AGENCY: Federal Aviation Administration (FAA), DOT.

ACTION: Final rule; correction.

SUMMARY: The FAA is correcting an airworthiness directive (AD) that was published in the Federal Register. The AD applies to all Sikorsky Model S-70, S-70A, and S-70C helicopters, which are restricted category helicopters derived from the military Model UH-60 helicopter. The part number (P/N) for the No. 2 crossfeed breakaway valve listed in the “Required Actions” section is incorrect. This document corrects that error. Also, this document contains a response to a comment received after publication of the Final Rule. In all other respects, the original document remains the same.

DATES: This final rule is effective July 12, 2013. The effective date for AD 2012-23-13 (77 FR 71087, November 29, 2012) remains December 14, 2012.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Michael Davison, Flight Test Engineer, New England Regional Office, FAA, 12 New England Executive Park, Burlington, MA 01803; phone: (781) 238-7156, email: michael.davison@faa.gov.

SUPPLEMENTARY INFORMATION: Airworthiness Directive 2012-23-13, Amendment 39-17269 (77 FR 71087, November 29, 2012), currently includes the following under paragraph (e)(xiii) in the Required Actions section:

(xiii) For Number 2 crossfeed breakaway valve, P/N 70307-03600-103, establish a life limit of 1,500 hours.

As published, the identification of the P/N as 70307-03600-103 is incorrect. The correct P/N is 70307-03006-103. No other part of the regulatory information has been changed; therefore, only the changed portion of the final rule is being published in the Federal Register.

Comments

After we published our Final rule; request for comments (77 FR 71087; November 29, 2012), we received a comment from one commenter.

Request

The one commenter from the manufacturer stated that the document reduced the life limit for the main and tail rotor blades but does not make any reference to the detailed internal life limited components of the blades. The commenter asked whether the AD applies only to the blade assembly P/Ns and whether the blade components were overlooked.

We do not agree that the AD should include life limits for the internal components of the blade assembly. The life limit of each main and tail rotor blade reflects the life limit of its lowest component in the Sikorsky Airworthiness Limitations technical manual. That manual does not list life limits for individual internal components.

Correction of Regulatory Text

§ 39.13 [Corrected]

In the Federal Register of November 29, 2012, on page 71089, in the first column, paragraph (e)(xiii) of AD 2012-23-13 is corrected to read as follows:

* * * * *

(e)(xiii) For Number 2 crossfeed breakaway valve, P/N 70307-03006-103, establish a life limit of 1,500 hours TIS.

* * * * *

Issued in Fort Worth, Texas, on July 3, 2013.
Kim Smith,
Directorate Manager, Rotorcraft Directorate, Aircraft Certification Service.

[FR Doc. 2013-16693 Filed 7-11-13; 8:45 am]

BILLING CODE 4910-13-P